ENVIRONMENTAL PROTECTION AGENCY

[OW-2003-0064, FRL-8482-7]

U.S. EPA's National Clean Water Act Recognition Awards Presentation During the Water Environment Federation's Technical Exposition and Conference (WEFTEC), and Announcement of 2007 National Awards Winners

AGENCY: Environmental Protection Agency (EPA).

ACTION: Notice.

SUMMARY: The Environmental Protection Agency recognized municipalities and industries for outstanding and innovative technological achievements in wastewater treatment and pollution abatement programs. An inscribed plaque was presented to first and second place national winners at the annual Clean Water Act Recognition Awards presentation during the Water Environment Federation's Technical Exposition and Conference (WEFTEC). Recognition is made every year for outstanding programs and projects in operations and maintenance at wastewater treatment facilities, biosolids management and public acceptance, municipal implementation and enforcement of local pretreatment programs, cost-effective storm water controls, and combined sewer overflow controls. This action also announces the 2007 national awards winners.

DATES: Monday, October 15, 2007, 11:30 a.m. to 1 p.m.

ADDRESSES: The national awards presentation ceremony was held at the San Diego Convention Center, San Diego, California.

FOR FURTHER INFORMATION CONTACT: William Hasselkus, Telephone: (202) 564-0664. Facsimile Number: (202) 501-2396. E-Mail: hasselkus.william@epa.gov. Also visit the Office of Wastewater Management's Web page at http://www.epa.gov/owm.

SUPPLEMENTARY INFORMATION: The Clean Water Act Recognition Awards are authorized by section 501(a) and (e) of the Clean Water Act, and 33 U.S.C. 1361(a) and (e). Applications and nominations for the national awards are recommended by EPA regions. A regulation establishes a framework for the annual recognition awards program at 40 CFR part 105. EPA announced the availability of application and nomination information for this year's awards (72 FR 26632, May 10, 2007). The awards program enhances national awareness of municipal wastewater treatment and encourages public support of programs targeted to protecting the public's health and safety and the nation's water quality. State water pollution control agencies and EPA regional offices make recommendations to headquarters for the national awards. Programs and projects being recognized are in compliance with applicable water quality requirements and have a satisfactory record with respect to environmental quality. Municipalities and industries are recognized for their demonstrated creativity and technological achievements in five awards categories as follows:

(1) Outstanding Operations and Maintenance practices at wastewater treatment facilities;

(2) Exemplary Biosolids Management projects, technology/innovation or development activities, research and public acceptance efforts;

(3) Pretreatment Program Excellence;

(4) Storm Water Management Excellence; and,

(5) Outstanding Combined Sewer Overflow Control programs.

The winners of the EPA's 2007 National Clean Water Act Recognition Awards are listed below by category.

Category: Outstanding Operations and Maintenance Awards
First Place | Sub-category
Kent County Regional Wastewater Treatment Facility, Milford, Delaware | Large Advanced Plant.
Persigo Wastewater Treatment Facility, Grand Junction, Colorado | Large Secondary Treatment Plant.
Kalispell Advanced Wastewater Treatment and Biological Nutrient Removal Facility, Kalispell, Montana | Medium Advanced Plant.
Douglasville-Douglas County Water and Sewer Authority, South Central Urban Water Reuse Facility, Douglasville, Georgia | Small Non-Discharging Plant.
Village of Trempealeau Wastewater Treatment Facility, Trempealeau, Wisconsin | Small Secondary Plant.
Southern Ute Indian Tribe Wastewater Treatment Plant, Ignacio, Colorado | Small Advanced Plant.
Second Place | Sub-category
Flat Creek Water Reclamation Facility, Gainesville, Georgia | Large Advanced Plant.
City of Groton, Connecticut Water Pollution Control Facility, Groton, Connecticut | Medium Advanced Plant.
Barona Band of Mission Indians, Lakeside, California | Small Advanced Plant.
Category: Exemplary Biosolids Management Awards
First Place | Sub-category
Ocean County Utilities Authority, Bayville, New Jersey | Greater than 5 dry tons per day.
City of Albany, Oregon, Albany, Oregon | Less than 5 dry tons per day.
University of Washington (Biosolids to Biodiesel), Seattle, Washington | Research and Innovation Activities.
Columbus Water Works, Atlanta, Georgia | Technology Development Activities.
Second Place
Southside Wastewater Treatment Plant, Dallas, Texas | Greater than 5 dry tons per day.
Category: Outstanding Pretreatment Program Awards
First Place | Sub-category
Tri-Cities: Vandalia, Tipp City, Huber Heights, Ohio, Dayton, Ohio | 0-5 Significant Industrial Users (SIUs).
City of Longmont, Colorado, Longmont, Colorado | 6-20 SIUs.
Jacksonville Electric Authority, Jacksonville, Florida | 21 or more SIUs.
Second Place
Big Dry Creek Wastewater Treatment Facility, Westminster, Colorado | 0-5 SIUs.
Persigo Wastewater Treatment Facility, Grand Junction, Colorado | 6-20 SIUs.
Austin Water Utility, Austin, Texas | 21 or more SIUs.
Category: Outstanding Storm Water Management Awards
First Place | Sub-category
City of Oakland Watershed Improvement Program, Oakland, California | Municipal Program.
Caltrans Stormwater Management Program, Sacramento, California | Municipal Program.

Dated: October 4, 2007.
Judy Davis,
Acting Director, Office of Wastewater Management.

[FR Doc. E7-20373 Filed 10-15-07; 8:45 am]

BILLING CODE 6560-50-P